DEPARTMENT OF THE TREASURY

[Docket ID No. TREAS-DO-2026-0034]

Designation of the Social Security Administration's Numerical Identification System (Numident) Into Do Not Pay

AGENCY: Departmental Offices, Department of the Treasury.

ACTION: Notice of proposed designation.

SUMMARY: Pursuant to the Payment Integrity Information Act of 2019 (PIIA) (31 U.S.C. 3351 et seq.), the U.S. Department of Treasury (Treasury) operates the Do Not Pay Working System—a centralized portal through which agencies can search multiple databases to verify payment or award eligibility. Treasury, under a delegation from the Director of the Office of Management and Budget (OMB), is authorized to designate new databases for inclusion in the Do Not Pay Working System. Treasury is issuing this Notice of Proposed Designation to provide the public an opportunity to comment on the proposed designation of the Social Security Administration's Numerical Identification System (Numident) to the Do Not Pay Working System.

DATES: Submit written comments on or before February 25, 2026. At the conclusion of the comment period, if Treasury decides to finalize the designation, Treasury will publish a notice in the Federal Register to officially designate the database.

ADDRESSES: Submit your comments, identified by Docket ID TREAS-DO-2026-0034, online at https://www.regulations.gov. Comments can also be mailed to the Department of the Treasury, Office of the Fiscal Assistant Secretary, 1500 Pennsylvania Avenue NW, Washington, DC 20220, Attn: DNP Comments. Commenters are encouraged to submit public comments electronically.

Submission of comments in response to this notice is voluntary. Comments may be used to inform decision-making on topics related to this notice. In general, all comments received will be posted without change to www.regulations.gov, including any personal information provided. You should submit only information that you wish to make publicly available.

FOR FURTHER INFORMATION CONTACT: Office of the Fiscal Assistant Secretary, U.S. Department of the Treasury, Office of the Fiscal Assistant Secretary, 1500 Pennsylvania Avenue NW, Washington, DC 20220, Telephone (202) 622-2000 or Email AmericasBankAccountEO@treasury.gov.

SUPPLEMENTARY INFORMATION: The Do Not Pay Working System is a centralized portal through which agencies can search multiple databases to obtain information about potential federal payees and awardees for the purpose of identifying and preventing improper payments. Pursuant to 31 U.S.C. 3354(b)(2) OMB has delegated authority to the Treasury to designate additional databases to the Do Not Pay Working System when those databases substantially assist in preventing improper payments.

Treasury is issuing this Notice of Proposed Designation to designate Social Security Administration's (SSA) Numerical Identification System (Numident). Numident “contains a record of each person who has applied for and to whom [SSA] [has] assigned [a] [Social Security Number (SSN)].” See System of Records Notice (SORN) 60-0058, Master Files of Social Security Number (SSN) Holders and SSN Applications, 90 FR 50879 (Nov. 12, 2025). Upon designation to the Do Not Pay Working System, Numident will be used solely for the purpose of verifying the name, SSN, and date of birth (DOB) of individuals receiving federally-funded payments or awards under health or income maintenance programs (e.g., Social Security retirement payments, Medicare, and Medicaid). The addition of Numident to the Do Not Pay Working System will strengthen the integrity of Federal funds disbursements in health or income maintenance programs, including in federally-funded state-administered programs.

Do Not Pay Working System Privacy, Security, and Legal Compliance: Treasury considers information security, privacy, records management, public transparency, and supply chain security matters for all resource planning and management activities to ensure certain risks are appropriately managed.

Treasury has primary responsibility for compliance with privacy restrictions and manages risks associated with the use of specific data to reduce improper payments for Do Not Pay users. Fiscal Service maintains a comprehensive privacy program and dedicates specialized privacy resources within the Do Not Pay program to ensure compliance with all applicable statutes, regulations, policies, and privacy requirements guided by the Fair Information Practice Principles and industry best practices governing information systems and data privacy. This includes maintaining ongoing awareness of privacy and security risks and assessing associated controls at a frequency sufficient to ensure compliance and effectively manage those risks. The Do Not Pay program consults department and bureau leadership and legal counsel regarding the Do Not Pay Working System to employ privacy and security controls through a data governance process.

Treasury complies with Federal Information Security Modernization Act of 2014 requirements and ensures Do Not Pay Working System assets are managed in accordance with federal requirements, policies, and procedures. The Do Not Pay Working System employs security controls for secure system access using Personal Identity Verification credentials, Login.gov account management, and ID.ME. Do Not Pay Working System users and administrators are required to sign rules of behavior stipulating their responsibilities to minimize risks associated with the use of specific data.

Designation Overview: OMB has reviewed Treasury's recommendation to designate SSA's Numident to the Do Not Pay Working System. Numident is the authoritative federal source for Social Security Numbers (SSNs). While the full Numident database contains all the information SSA receives on applications for SSNs, the designation to the Do Not Pay Working System will be limited in scope, allowing Do Not Pay users to verify only three data elements associated with a payment or award recipient under a health or income maintenance program—name, SSN, and DOB. This proposed designation supports the reduction of identity-related improper payments, which have exceeded $31 billion since FY2021. Fiscal Service and SSA each maintain responsibility for the security and lawful handling of the data elements exchanged, ensuring compliance with the Privacy Act and other applicable federal statutes.

Considerations for Designating

1. Statutory or other limitations on the use and sharing of specific data:

Sections 205(a) and 205(c)(2) of the Social Security Act authorizes SSA's maintenance of the Numident database. Pursuant to the Privacy Act of 1974 (5 U.S.C. 552a), as amended, SSA is permitted to disclose Numident records to the Do Not Pay Working System under Routine Use 17 of SORN 60-0058, Master Files of SSN Holders and SSN Applications 90 FR 50879 (Nov. 12, 2025), which permits the disclosure of Numident data to “Federal, State, or local agencies (or agents on their behalf) for administering income or health maintenance programs.”

2. Privacy restrictions and risks associated with specific data:

Fiscal Service conducted a privacy risk assessment for the Numident data source to evaluate potential privacy risks and ensure compliance with applicable legal, regulatory, and policy requirements, including the Privacy Act of 1974, as amended. This assessment examined the risks and effects of using Numident data and evaluated protections and alternative processes to mitigate those risks. The data sharing arrangement between the SSA and the Do Not Pay Working System involves the exchange of personally identifiable information (PII) solely for the purpose of verifying SSNs associated with federal health or income maintenance program payments and awards.

SSA will provide verification services by matching submitted SSNs, names, and DOBs against its authoritative Numident database. Specifically, Do Not Pay users will submit both name and SSN numbers associated with payment or award recipients under health or income maintenance programs, and will also have the option to verify the individual's DOB. In response, SSA's Numident will transmit to the Do Not Pay Working System certain numerical response codes indicating whether one or more of the submitted elements match SSA's Numident file. SSA will not disclose any other Numident data or PII to the Do Not Pay Working System other than the numerical response codes indicating whether the submitted data element matches SSA's Numident records. For example, if a submitted SSN is not verified, Numident will not share the correct SSN with the Do Not Pay Working System. Accordingly, the exchange will be governed by strict data minimization principles: only the data necessary for verification is collected, retained for the shortest duration required, and used exclusively for payment integrity purposes. This method strengthens internal controls, supports federal privacy standards, and limits the exposure of PII.

Transparency and accountability are further reinforced through public notices in the Federal Register, privacy impact assessments, and the publication of privacy policies on the Do Not Pay website. While Do Not Pay does not collect information directly from individuals, it relies on the original data source agencies to provide appropriate notice and obtain consent where applicable. These layered controls and oversight mechanisms collectively ensure that the use of SSA data remains lawful, limited in scope, and aligned with federal privacy standards.

3. Likelihood that the data will strengthen program integrity across programs and agencies:

The use of SSA's Numident data for SSN verification has a high likelihood of strengthening program integrity across federal and federally funded state-administered health or income maintenance programs. By enabling precise validation of identity attributes against Numident, agencies can more confidently assess the accuracy of payment records. This capability directly supports pre-award, pre-payment, and payment-stage verification processes, reducing the risk of improper payments and enhancing compliance with statutory and policy requirements. The centralized access to verified identity data also facilitates consistent application of payment integrity controls across disparate programs, improving operational efficiency and reducing fraud. The integration of Numident into the Do Not Pay Working System provides a scalable and secure framework for cross-agency collaboration.

4. Benefits of streamlining access to the data through Do Not Pay:

Streamlining access to SSA's Numident data through the Do Not Pay Working System offers significant operational and compliance benefits for federal agencies. By centralizing identity verification services within an established, secure infrastructure, agencies can reduce duplicative efforts, accelerate pre-award, pre-payment, and payment-stage validations, and improve consistency in applying payment integrity controls. This approach minimizes the need for separate data access arrangements, enabling agencies to leverage verified SSN data without navigating complex interagency agreements or bespoke technical integrations. Do Not Pay estimates that full utilization of Numident could address $1.5 billion to $4.5 billion in annual at-risk payments. The result is a more efficient, scalable model for identity validation that supports timely and accurate decision-making across programs.

5. Costs associated with expanding or centralizing access, including modifications needed to system interfaces or other capabilities in order to make data accessible:

Establishing access to the Numident data source will require targeted system modifications to support secure and efficient data integration. SSA, as the federal provider of Numident, imposes specific technical and financial requirements for access, including initial fees to develop secure file transfer mechanisms and direct connections. These infrastructure enhancements are necessary to ensure compatibility with existing systems and to maintain integrity and confidentiality of data. Treasury proposes to directly compensate SSA for these services, consistent with interagency data-sharing practices. Do Not Pay will also incur internal costs related to system interface modifications, maintenance, and operational support to ensure sustained compliance with federal privacy, security, and data governance standards. These investments are essential to enable scalable, policy-compliant access to Numident data for authorized federal use. Treasury determined that integration costs are minimal and can be absorbed within existing development efforts.

6. Other policy and stakeholder considerations:

This direct integration through the Do Not Pay Working System offers a legally sound and operationally efficient mechanism to conduct identity verification in support of payment integrity. By centralizing access within a secure, policy-compliant infrastructure, agencies can reduce administrative burden, eliminate duplicative data access arrangements, and accelerate pre-award, pre-payment, and payment-stage validations. This approach ensures consistent application of verification protocols across programs, enabling agencies to detect and prevent improper payments with greater speed and precision.

Gary Grippo,
Acting Fiscal Assistant Secretary.

[FR Doc. 2026-02630 Filed 2-9-26; 8:45 am]

BILLING CODE 4810-AK-P